DEPARTMENT OF HEALTH AND HUMAN SERVICES

National Institutes of Health

National Center for Research Resources; Amended Notice of Meeting

Notice is hereby given of a change in the meeting of the National Center for Research Resources Special Emphasis Panel, July 20, 2009, 8 a.m. to July 24, 2009, 5 p.m., National Institutes of Health, One Democracy Plaza, 6701 Democracy Boulevard, Bethesda, MD 20892 which was published in the Federal Register on May 27, 2009, 74 FR 25262.

The previously published July 20-24, 2009, meeting has been changed to a one day meeting on July 24, 2009. The meeting is closed to the public.

Dated: June 8, 2009.
Jennifer Spaeth,
Director, Office of Federal Advisory Committee Policy.

[FR Doc. E9-13950 Filed 6-12-09; 8:45 am]

BILLING CODE 4140-01-P